DEPARTMENT OF ENERGY

Federal Energy Regulatory Commission

[Docket No. CP05-8-000]

Starks Gas Storage, L.L.C.; Notice of Intent To Prepare an Environmental Assessment for the Proposed Starks Gas Storage Project and Request for Comments on Environmental Issues

December 1, 2004.

The staff of the Federal Energy Regulatory Commission (FERC or Commission) will prepare an environmental assessment (EA) that will discuss the environmental impacts of the Starks Gas Storage Project involving construction and operation of facilities by Starks Gas Storage L.L.C. (Starks) in Calcasieu and Beauregard Parishes, Louisiana.¹ These facilities would consist of converting two existing salt dome caverns to a natural gas storage; one new compressor station; about 35.6 miles or 16-inch and 30-inch-diameter of gas pipeline; about 1.9 miles of 10-inch-diameter brine pipeline; and two salt water disposal (SWD) injection wells (brine disposal). The EA will be used by the Commission in its decision-making process to determine whether the project is in the public convenience and necessity.

¹ Stark's application was filed with the Commission under section 7 of the Natural Gas Act and Part 157 of the Commission(s regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement the pipeline company could initiate condemnation proceedings in accordance with state law.

A fact sheet prepared by the FERC entitled “An Interstate Natural Gas Facility On My Land? What Do I Need To Know?” was attached to the project notice Starks provided to landowners. This fact sheet addresses a number of typically asked questions, including the use of eminent domain and how to participate in the Commission's proceedings. It is available for viewing on the FERC Internet Web site (www.ferc.gov).

Summary of the Proposed Project

Starks proposes to convert two existing salt dome caverns and associated brine wells “Starks No. 1” (PPG-10) and “Starks No. 2” (PPG-9) to a natural gas storage facility in Calcasieu Parish, Louisiana. The project would initially utilize Starks No. 1 cavern to store about 13.3 billion cubic feet (Bcf) of natural gas comprised of approximately 8.8 Bcf of working gas and about 4.5 Bcf of cushion gas. The facilities would be designed to allow cycling of the entire storage volume 5 to 6 times per year with injections and withdrawals of approximately 400 million cubic feet per day (MMcfd). Starks No. 2 cavern, to be available about 18 months later, would add 10.4 Bcf of working gas and about 5.3 Bcf of cushion gas. The overall project injection and withdrawal rates would double. The total storage volume of Starks No. 2 cavern would be about 15.6 Bcf. In Docket No. CP05-8-000, Starks proposes the following facilities in Calcasieu Parish, Louisiana unless otherwise specified:

• Convert two existing salt dome caverns and associated brine wells “Starks No. 1” (PPG-10) and “Starks No. 2” (PPG-9) to a natural gas storage;

• Construct two salt water injection wells (brine disposal);

• Construct one 33,000 horsepower compressor station (Starks Compressor Station);

• Construct Segment 1a—0.68 mile of 16-inch-diameter gas pipeline and a collocated 10-inch diameter brine disposal pipeline from the Starks Compressor Station milepost (MP) west (w) 0.00 to the Starks No. 1 storage cavern to MP w 0.68; and a valve station at MP w 0.27;

• Construct Segment 1b—0.47 mile of a 16 inch-diameter gas pipeline from the Starks Compressor Station (MP 0.0) to the Starks No. 2 storage cavern (MP w 0.47);

• Segment 1c—construct 0.20 mile of 10-inch-diameter brine disposal pipeline from the valve station at MP w 0.27 to the Starks No. 2 storage cavern collocated with Segment 1b from MP w 0.27 to MP w 0.47;

• Construct Segment 2a—construct 1.2 miles of 30-inch-diameter gas pipeline collocated with a 10-inch-diamter brine disposal pipeline from the Starks Compressor Station MP east (e) 0.00 to the SWD injection wells from to MP e 1.21;

• Construct Segment 2b—0.59 mile continuation of the 30-inch-diameter gas pipeline from the SWD injection wells (MP e 1.21) to the Tennessee Gas Pipeline Company (Tennessee) interconnect meter station (MP e 1.80);

• Construct Segment 3a—28.0 miles of 30-inch-diameter gas pipeline from the Tennessee interconnect meter station (MP e 1.80) in Calcasieu Parish, to the Transcontinental Gas Pipe Line Corporation (Transco) interconnect meter station (MP e 29.80) in Beauregard Parish, Louisiana; and

• Construct Segment 3b—3.97 miles of 30-inch-diameter gas pipeline from the Transco pipeline interconnect meter station (MP e 29.80) to the Texas Eastern Transmission, LP pipeline interconnect meter station (MP e 33.77) in Beauregard Parish, Louisiana.

The location of the project facilities is shown in Appendix 1.²

² The appendices referenced in this notice are not being printed in the Federal Register. Copies of all appendices, other than appendix 1 (maps), are available on the Commission's Web site at the “eLibrary” link or from the Commission's Public Reference and Files Maintenance Branch, 888 First Street, NE., Washington, DC 20426, or call (202) 502-8371. For instructions on connecting to eLibrary refer to the last page of this notice. Copies of the appendices were sent to all those receiving this notice in the mail.

Nonjurisdictional Facilities

No non-jurisdictional facilities that will be built as a result of the proposed project.

Land Requirements for Construction

Construction of the proposed pipeline and related facilities would require about 219.6 acres of land. Following construction, about 129.9 acres would be maintained as new pipeline right-of-way, roads, or aboveground facility sites. The remaining 89.7 acres of land would be restored and allowed to revert to its former use.

The EA Process

The National Environmental Policy Act (NEPA) requires the Commission to take into account the environmental impacts that could result from an action whenever it considers the issuance of a Certificate of Public Convenience and Necessity. NEPA also requires us ³ to discover and address concerns the public may have about proposals. This process is referred to as “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ “We”, “us”, and “our” refer to the environmental staff of the Office of Energy Projects (OEP).

The EA will discuss impacts that could occur as a result of the construction and operation of the proposed project under these general headings:

• Geology and soils.

• Land use.

• Water resources, fisheries, and wetlands.

• Cultural resources.

• Vegetation and wildlife.

• Air quality and noise.

• Endangered and threatened species.

• Hazardous waste.

• Public safety.

• Water resources, fisheries, and wetlands.

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Starks. This preliminary list of issues may be changed based on your comments and our analysis.

• Two federally listed endangered or threatened species, the Red-cockaded Woodpecker and the American chaff-seed, may occur in the proposed project area.

• A total of about 49.8 acres of known wetlands would be affected by construction and about 30.2 acres of wetlands would be affected by operation of the project. The compressor station would permanently affect about 0.4 acre of wetland and the SWD brine injection wells would permanently affect 0.7 acre of wetlands during operation.

• One domestic drinking water supply well and one public drinking water supply well have been identified within 150 feet of the pipeline route;

• Eighteen waterbodies would be crossed by the pipeline facilities; twelve waterbodies would be crossed by using the horizontal directional drilling method and six waterbodies would be crossed by using the wet ditch method.

• Cultural resources may be affected in the project area.

Also, we have made a preliminary decision to not address the impacts of the nonjurisdictional facilities. We will briefly describe their location and status in the EA.

Public Participation

You can make a difference by providing us with your specific comments or concerns about the project. By becoming a commentor, your concerns will be addressed in the EA and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Nos. CP05-8-000.

• Mail your comments so that they will be received in Washington, DC on or before January 3, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (appendix 4). If you do not return the Information Request, you will be taken off the mailing list.

The Commission staff will conduct a field trip of storage caverns, portions of the pipeline, and related facilities on December 14 through December 16, 2004. Anyone interested in participating in the field trip may attend, but they must provide their own transportation. The staff will start the field trip on December 13, 2004 at approximately 2:00 p.m (CST); and continue Tuesday, December 14, through Wednesday, December 15, 2004, as necessary, at approximately 7:30 a.m. Staff will meet each day in the parking lot of the following hotel: Best Western Executive Hotel, 1200 Pintail, Sulphur, LA 70665, Telephone: (337) 625-9000.

Becoming an Intervenor

In addition to involvement in the EA/EIS scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214) (see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 3, to express their interest in becoming cooperating agencies for the preparation of the EA.

Additional Information

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E4-3511 Filed 12-6-04; 8:45 am]

BILLING CODE 6717-01-P